DEPARTMENT OF THE INTERIOR

Fish and Wildlife Service

[FWS-R8-ES-2018-N047; FXES11130800000-189-FF08EVEN00]

Two Low-Effect Habitat Conservation Plans and Categorical Exclusions for Pacific Gas and Electric Company Gas Pipeline Vegetation Management, Santa Cruz and Monterey Counties, California

AGENCY: Fish and Wildlife Service, Interior.

ACTION: Notice of availability; request for comment.

SUMMARY: We, the U.S. Fish and Wildlife Service, have received two applications from Pacific Gas and Electric Company for two 20-year incidental take permits under the Endangered Species Act of 1973, as amended (ESA). The applications address the potential for “take” of the federally endangered Mount Hermon June beetle and Santa Cruz long-toed salamander, as well as the federally threatened California red-legged frog, that is likely to occur incidental to the removal of vegetation along two natural gas pipelines that traverse Santa Cruz and Monterey Counties, California. We invite comments from the public on the application packages, which include two low-effect habitat conservation plans.

DATES: To ensure consideration, please send your written comments by July 6, 2018.

ADDRESSES:

Obtaining Documents: You may download copies of the habitat conservation plans, draft environmental action statements, low-effect screening forms, and related documents on the internet at http://www.fws.gov/ventura/, or you may request copies by U.S. mail to our Ventura office (below) or by phone (see FOR FURTHER INFORMATION CONTACT).

Submitting Comments: Please address written comments to Stephen P. Henry, Field Supervisor, Ventura Fish and Wildlife Office, U.S. Fish and Wildlife Service, 2493 Portola Road, Suite B, Ventura, CA 93003. You alternatively may send comments by facsimile to (805) 644-3958.

FOR FURTHER INFORMATION CONTACT: Chad Mitcham, Fish and Wildlife Biologist, by U.S. mail to the Ventura office, or by telephone at (805) 677-3328.

SUPPLEMENTARY INFORMATION: We have received two applications from Pacific Gas and Electric Company (PG&E) for two 20-year incidental take permits (ITPs) under the Endangered Species Act of 1973, as amended (ESA; 16 U.S.C. 1531 et seq.). The applications address the potential for “take” of the federally endangered Mount Hermon June beetle (Polyphylla barbata) and Santa Cruz long-toed salamander (Ambystoma macrodactylum croceum), and the federally threatened California red-legged frog (Rana draytonii) likely to occur incidental to the initial removal and ongoing periodic management of vegetation that occurs over and along two separate natural gas pipelines. The first proposed habitat conservation plan (HCP), referred to in this document as the Sandhills HCP, concerns the natural gas pipeline located along Graham Hill Road, Santa Cruz County, California, and occurs within habitat for the Mount Hermon June beetle. The second HCP, referred to as the North Coast HCP, concerns a natural gas pipeline that traverses portions of Santa Cruz and Monterey Counties and occurs within habitat of the Santa Cruz long-toed salamander and California red-legged frog. We invite comments from the public on the application packages, which include two proposed low-effect HCPs. The proposed actions have been determined to be eligible for categorical exclusions under the National Environmental Policy Act of 1969 (NEPA; 42 U.S.C. 4321 et seq.), as amended.

Background

Section 9 of the ESA and its implementing regulations prohibit the take of fish or wildlife species listed as endangered or threatened. “Take” is defined under the ESA to include the following activities: “to harass, harm, pursue, hunt, shoot, wound, kill, trap, capture, or collect, or to attempt to engage in any such conduct” (16 U.S.C. 1532); however, under section 10(a)(1)(B) of the ESA, we may issue permits to authorize incidental take of listed species. “Incidental Take” is defined as take that is incidental to, and not the purpose of, the carrying out of an otherwise lawful activity (50 CFR 17.3). Regulations governing incidental take permits for threatened and endangered species are provided at 50 CFR 17.32 and 17.22, respectively. Issuance of an incidental take permit must not jeopardize the existence of federally listed fish, wildlife, or plant species.

Applicant's Proposal

PG&E (hereafter, the applicant) has submitted two low-effect HCPs in support of their applications for incidental take permits (ITPs) to address take of the Mount Hermon June beetle, Santa Cruz long-toed salamander, and the California red-legged frog. The Sandhills HCP addresses take of the Mount Hermon June beetle that is likely to occur as the result of direct impacts on up to 2.9 acres (ac) of habitat that is occupied by the species. The North Coast HCP addresses take that is likely to occur as the result of direct impacts on up to 4.472 ac of Santa Cruz long-toed salamander habitat and up to 6.997 ac of California red-legged frog habitat, occupied by the species. Take for both HCPs would be associated with the initial removal of vegetation and twenty years of periodic vegetation management along two natural gas pipelines. The Sandhills HCP is located in Santa Cruz County, while the North Coast HCP is located in both Santa Cruz and Monterey Counties. The applicant is requesting permits for take of the Mount Hermon June beetle (Sandhills HCP), and the Santa Cruz long-toed salamander, and California red-legged frog (North Coast HCP) that would result from “covered activities” that are related to the removal of vegetation.

The applicant proposes to avoid, minimize, and mitigate impacts to the Mount Hermon June beetle associated with the covered activities by fully implementing the Sandhills HCP. The following measures will be implemented: (1) Vegetation management will take place outside of the flight season (May 1 through August 31) of the Mount Hermon June beetle; (2) a biological monitor will be present during all work activities to identify appropriate access and work areas to minimize impacts to sandhills habitat; (3) if any life stage of the Mount Hermon June beetle is encountered during work activities, work will cease and a Service-approved biologist will be notified and the individual(s) will be relocated to suitable habitat not affected by work activities; (4) all cut stumps will be left intact to reduce ground disturbance; (5) all workers will participate in awareness training to inform them about the Mount Hermon June beetle and associated conservation measures to be followed; and (6) permanently protect habitat for the Mount Hermon June beetle through the purchase of 2.9 ac of conservation credits at the Zayante Sandhills Conservation Bank. The applicant will fund up to $795,735 to ensure implementation of all minimization measures, monitoring, and reporting requirements identified in the HCP.

The applicant proposes to avoid, minimize, and mitigate impacts to the Santa Cruz long-toed salamander and California red-legged frog associated with the covered activities by fully implementing the North Coast HCP. The following measures will be implemented: (1) All workers will participate in awareness training to inform them about the Santa Cruz long-toed salamander and California red-legged frog and associated conservation measures to be followed; (2) vegetation management activities will take place between April 15 and September 15, to minimize impacts to the species; (3) impacts to small mammal burrows will be avoided to the maximum extent practicable; (4) a qualified biologist will monitor all vegetation removal activities to ensure compliance with required avoidance and minimization measures; (5) if a Santa Cruz long-toed salamander or California red-legged frog is encountered in an area to be impacted, work in that area will cease until the animal moves from the area or a Service-approved biologist captures and relocates the individual outside of the work area; (6) permanently protect habitat for the Santa Cruz long-toed salamander through the dedication of a 7.2-ac conservation easement at the Tucker Property in Santa Cruz County; and (7) provide $342,432 to fund the creation, management and monitoring of 1.75 ac of California red-legged frog aquatic breeding habitat at Yellowbank Creek, near the town of Davenport in Santa Cruz County. The applicant will fund up to $1,424,432 to ensure implementation of all minimization measures, monitoring, and reporting requirements identified in the HCP.

In each of the two proposed HCPs, the applicant considers two alternatives to the proposed action: “No Action” and “Original Project.” Under the “No Action” alternative, an ITP for the proposed project would not be issued. The proposed conservation strategies would not be provided to effect recovery actions for the impacted species. The “No Action” alternative would not achieve vegetation management guidelines for PG&E infrastructure and would not result in benefits for the covered species; therefore, for each of the proposed HCPs, the applicant has rejected the “No Action” alternative. Under each of the two “Original Project” alternatives, the applicant would remove considerably more habitat along the subject natural gas pipeline, resulting in greater impacts to the covered species. Through coordination with the Service, PG&E revised the projects in a way that could still achieve desired vegetation management goals, while reducing impacts to the covered species. Therefore, the applicant has also rejected both of the “Original Project” alternatives.

Our Preliminary Determination

The Service has made preliminary determinations that issuance of both incidental take permits is neither a major Federal action that will significantly affect the quality of the human environment within the meaning of section 102(2)(C) of NEPA, nor that it will, individually or cumulatively, have more than a negligible effect on the Mount Hermon June beetle, Santa Cruz long-toed salamander, and California red-legged frog. Therefore, in accordance with these preliminary determinations, both permits qualify for a categorical exclusion under NEPA.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under the ESA, section 10(c) (16 U.S.C. 1531 et seq.) and its implementing regulations (50 CFR 17.22) and NEPA (42 U.S.C. 4321 et seq.) and its implementing regulations (40 CFR 1506.6).

Dated: May 25, 2018.
Stephen P. Henry,
Field Supervisor, Ventura Fish and Wildlife Office, Ventura, California.

[FR Doc. 2018-12133 Filed 6-5-18; 8:45 am]

BILLING CODE 4333-15-P